NUCLEAR REGULATORY COMMISSION

[Docket No. 50-289; NRC-2008-0150]

Exelon Generation Company, LLC, Three Mile Island Nuclear Station, Unit 1; Notice of Issuance of Renewed Facility Operating License No. DPR-50 for an Additional 20-Year Period

Notice is hereby given that the U.S. Nuclear Regulatory Commission (NRC or the Commission) has issued Renewed Facility Operating License No. DPR-50 to Exelon Generation Company, LLC, (licensee), the operator of the Three Mile Island Nuclear Station, Unit 1, (TMI-1). Renewed Facility Operating License No. DPR-50 authorizes operation of TMI-1 by the licensee at reactor core power levels not in excess of 2568 megawatts thermal (852 megawatts electric), in accordance with the provisions of the TMI-1 renewed license and its technical specifications. The notice also serves as the record of decision for the renewal of Facility Operating License No. DPR-50, consistent with Title 10 of the Code of Federal Regulations (10 CFR) Section 51.103, “Record of Decision—General.” As discussed in the final Supplemental Environmental Impact Statement for TMI-1 (NUREG-1437, Generic Environmental Impact Statement for License Renewal of Nuclear Plants, Supplement 37, Regarding Three Mile Island Nuclear Station, Unit 1,” issued June 2009), the Commission has considered a range of reasonable alternatives that included fossil fuel generation, renewable energy sources, and demand-side measures such as energy conservation. The factors considered in the record of decision appear in Supplement 37.

TMI-1 is a pressurized water reactor located 10 miles southeast of Harrisburg, Pennsylvania. The application for the renewed license complied with the standards and requirements of the Atomic Energy Act of 1954, as amended (the Act), and the Commission's regulations. As required by the Act and the Commission's regulations in 10 CFR Chapter 1, the Commission has made appropriate findings, which are set forth in the license.

Prior public notice of the action involving the proposed issuance of the renewed license and of an opportunity for a hearing regarding the proposed issuance of the renewed license was published in the Federal Register on March 14, 2008 (73 FR 13923). For further details with respect to this action, see: (1) Exelon Generation Company, LLC, license renewal application for TMI-1 dated January 8, 2008, as supplemented by letters through May 31, 2009; (2) the Commission's safety evaluation report (SER) (NUREG-1928), published in October, 2009; (3) the licensee's updated safety analysis report; and (4) the Commission's final environmental impact statement (FEIS) (NUREG-1437, Supplement 37), for TMI-1 published in June 2009. These documents are available at the NRC's Public Document Room, One White Flint North, 11555 Rockville Pike, Rockville, Maryland 20852, and can be viewed from the NRC Public Electronic Reading Room at http://www.nrc.gov/reading-rm/adams.html.

Copies of Renewed Facility Operating License No. DPR-50, may be obtained by writing to the U.S. Nuclear Regulatory Commission, Washington, DC 20555-0001, Attention: Director, Division of License Renewal. Copies of the TMI-1 SER (NUREG-1928) and the Final Environmental Impact Statement (NUREG-1437, Supplement 37) may be purchased from the National Technical Information Service, U.S. Department of Commerce, Springfield, Virginia 22161 (http://www.ntis.gov), 703-605-6000, or Attention: Superintendent of Documents, U.S. Government Printing Office, P.O. Box 371954, Pittsburgh, PA 15250-7954 (http://www.gpoaccess.gov), 202-512-1800. All orders should clearly identify the NRC publication number and the requestor's Government Printing Office deposit account number or Visa or MasterCard number and expiration date.

Dated at Rockville, Maryland, this 22nd day of October, 2009.
For the Nuclear Regulatory Commission.
David L. Pelton,
Chief, Projects Branch 1, Division of License Renewal, Office of Nuclear Reactor Regulation.

[FR Doc. E9-26072 Filed 10-28-09; 8:45 am]

BILLING CODE 7590-01-P